DEPARTMENT OF COMMERCE

International Trade Administration

[A-570-947]

Certain Steel Grating from the People's Republic of China: Initiation of Antidumping Duty Investigation

AGENCY: Import Administration, International Trade Administration, Department of Commerce.

EFFECTIVE DATE: June 25, 2009.

FOR FURTHER INFORMATION CONTACT: Thomas Martin at (202) 482-3936 or Robert Bolling at (202) 482-3434, AD/CVD Operations, Office 4, Import Administration, International Trade Administration, U.S. Department of Commerce, 14th Street and Constitution Avenue, N.W., Washington, DC 20230.

SUPPLEMENTARY INFORMATION:

The Petition

On May 29, 2009, the Department of Commerce (“the Department”) received a petition concerning imports of certain steel grating (“CSG”) from the People's Republic of China (“the PRC”) filed in proper form by Fisher & Ludlow and Alabama Metal Industries Corporation (“AMICO”) (collectively “Petitioners”). See the Petitions for the Imposition of Antidumping and Countervailing Duties: Certain Steel Grating from the PRC submitted on May 29, 2009 (“the Petition”). On June 4, 2009, and on June 11, 2009, the Department issued requests for additional information and clarification involving certain areas of the Petition. Based on the Department's requests, Petitioners filed additional information on June 9, 2009, and June 15, 2009. Specifically, Petitioners filed two submissions on June 9, 2009, one regarding general issues of the petition, and one containing clarifications specific to the antidumping allegation (hereinafter “Supplement to the AD/CVD Petitions” and “Supplement to the AD Petition” respectively). Petitioners also filed two submissions on June 15, 2009, again one containing more clarifications on general issues of the petition, and one providing requested clarification pertaining to the antidumping allegations (hereinafter “Second Supplement to the AD/CVD Petitions” and “Second Supplement to the AD Petition” respectively).

In accordance with section 732(b) of the Tariff Act of 1930, as amended (“the Act”), Petitioners allege that imports of CSG from the PRC are being, or are likely to be, sold in the United States at less than fair value, within the meaning of section 731 of the Act, and that such imports are materially injuring, or threatening material injury to, an industry in the United States.

The Department finds that Petitioners filed this Petition on behalf of the domestic industry because Petitioners are interested parties as defined in section 771(9)(C) of the Act and have demonstrated sufficient industry support with respect to the antidumping duty investigation that Petitioners are requesting that the Department initiate (see “Determination of Industry Support for the Petition” section below).

Scope of Investigation

The products covered by this investigation are certain steel grating from the PRC. For a full description of the scope of the investigation, please see the “Scope of Investigation” in Appendix I of this notice.

Comments on Scope of Investigation

During our review of the Petition, we discussed the scope with Petitioners to ensure that it is an accurate reflection of the products for which the domestic industry is seeking relief. Moreover, as discussed in the preamble to the regulations (Antidumping Duties; Countervailing Duties; Final Rule, 62 FR 27296, 27323 (May 19, 1997)), we are setting aside a period for interested parties to raise issues regarding product coverage. The Department encourages all interested parties to submit such comments within twenty calendar days of the date of publication of this notice in the Federal Register. Comments should be addressed to Import Administration's APO/Dockets Unit, Room 1870, U.S. Department of Commerce, 14th Street and Constitution Avenue, N.W., Washington, DC 20230. The period of scope consultations is intended to provide the Department with ample opportunity to consider all comments and to consult with parties prior to the issuance of the preliminary determination.

Comments on Product Characteristics for Antidumping Duty Questionnaires

We are requesting comments from interested parties regarding the appropriate physical characteristics of CSG to be reported in response to the Department's antidumping questionnaires. This information will be used to identify the key physical characteristics of the subject merchandise in order to more accurately report the relevant factors and costs of production, as well as to develop appropriate product comparison criteria.

Interested parties may provide any information or comments that they feel are relevant to the development of an accurate listing of physical characteristics. Specifically, they may provide comments as to which characteristics are appropriate to use as: 1) general product characteristics; and 2) the product comparison criteria. We note that it is not always appropriate to use all product characteristics as product comparison criteria. We base product comparison criteria on meaningful commercial differences among products. In other words, while there may be some physical product characteristics utilized by manufacturers to describe CSG, it may be that only a select few product characteristics take into account commercially meaningful physical characteristics. In addition, interested parties may comment on the order in which the physical characteristics should be used in product matching. Generally, the Department attempts to list the most important physical characteristics first and the least important characteristics last.

In order to consider the suggestions of interested parties in developing and issuing the antidumping duty questionnaires, we must receive comments at the above-referenced address by July 9, 2009. Additionally, we must receive rebuttal comments by July 16, 2009.

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A), or (ii) determine industry support using a statistically valid sampling method to poll the industry.

Section 771(4)(A) of the Act defines the “industry” as the producers as a whole of a domestic like product. Thus, to determine whether a petition has the requisite industry support, the statute directs the Department to look to producers and workers who produce the domestic like product. The International Trade Commission (“ITC”), which is responsible for determining whether “the domestic industry” has been injured, must also determine what constitutes a domestic like product in order to define the industry. While both the Department and the ITC must apply the same statutory definition regarding the domestic like product (section 771(10) of the Act), they do so for different purposes and pursuant to a separate and distinct authority. In addition, the Department's determination is subject to limitations of time and information. Although this may result in different definitions of the like product, such differences do not render the decision of either agency contrary to law. See USEC, Inc. v. United States, 132 F. Supp. 2d 1, 8 (CIT 2001), citing Algoma Steel Corp. Ltd. v. United States, 688 F. Supp. 639, 644 (CIT 1988), aff'd 865 F.2d 240 (Fed. Cir. 1989), cert. denied 492 U.S. 919 (1989).

Section 771(10) of the Act defines domestic like product as “a product which is like, or in the absence of like, most similar in characteristics and uses with, the article subject to an investigation under this subtitle.” Thus, the reference point from which the domestic like product analysis begins is “the article subject to an investigation,” (i.e., the class or kind of merchandise to be investigated, which normally will be the scope as defined in the petition).

With regard to the domestic like product, Petitioners do not offer a definition of domestic like product distinct from the scope of the investigation. Based on our analysis of the information submitted on the record, we have determined that CSG constitutes a single domestic like product and we have analyzed industry support in terms of that domestic like product. For a discussion of the domestic like product analysis in this case, see Antidumping Duty Investigation Initiation Checklist: CSG from the PRC (“Initiation Checklist”) at Attachment II (“Industry Support”), dated concurrently with this notice and on file in the Central Records Unit (“CRU”), Room 1117 of the main Department of Commerce building.

In determining whether Petitioners have standing, pursuant to section 732(c)(4)(A) of the Act, we considered the industry support data contained in the Petition with reference to the domestic like product as defined in the “Scope of Investigation” section above. To establish industry support, Petitioners provided their production of the domestic like product for the year 2008, as well as the production of three companies who support the Petition, and compared this to an estimate of total production of the domestic like product for the entire domestic industry. See Volume I of the Petitions at 3-6, and Exhibits I-3, and Supplement to the AD/CVD Petitions, at 8-10, and Exhibits 3, 4, 5, 6, and 7. To estimate 2008 production of the domestic like product, Petitioners used their own data as well their own industry-specific knowledge. Petitioners calculated total domestic production based on information provided by companies that are supporters of the Petition and that produce the domestic like product in the United States, as well estimates of production of non-petitioning producers of the domestic like product who have not expressed an opinion regarding the Petition. Id.; see also Initiation Checklist as Attachment II, Industry Support.

Our review of the data provided in the Petition, supplemental submissions, and other information readily available to the Department indicates that Petitioners have established industry support. First, the Petition established support from domestic producers (or workers) accounting for more than 50 percent of the total production of the domestic like product and, as such, the Department is not required to take further action in order to evaluate industry support (e.g., polling). See Section 732(c)(4)(D) of the Act and Initiation Checklist at Attachment II (Industry Support). Second, the domestic producers (or workers) have met the statutory criteria for industry support under section 732(c)(4)(A)(i) of the Act because the domestic producers (or workers) who support the Petition account for at least 25 percent of the total production of the domestic like product. See Initiation Checklist at Attachment II (Industry Support). Finally, the domestic producers (or workers) have met the statutory criteria for industry support under section 732(c)(4)(A)(ii) of the Act because the domestic producers (or workers) who support the Petition account for more than 50 percent of the production of the domestic like product produced by that portion of the industry expressing support for, or opposition to, the Petition. Id. Accordingly, the Department determines that the Petition was filed on behalf of the domestic industry within the meaning of section 732(b)(1) of the Act. Id.

The Department finds that Petitioners filed the Petition on behalf of the domestic industry because they are interested parties as defined in section 771(9)(C) of the Act and they have demonstrated sufficient industry support with respect to the antidumping investigation that they are requesting the Department initiate. Id.

Allegations and Evidence of Material Injury and Causation

Petitioners allege that the U.S. industry producing the domestic like product is being materially injured, or is threatened with material injury, by reason of the imports of the subject merchandise sold at less than normal value (“NV”). In addition, Petitioners allege that subject imports exceed the negligibility threshold provided for under section 771(24)(A) of the Act.

Petitioners contend that the industry's injured condition is illustrated by reduced market share, increased import penetration, underselling and price depressing and suppressing effects, lost sales and revenue, reduced production, capacity, and capacity utilization, reduced shipments and increased inventories, reduced employment, and an overall decline in financial performance. We have assessed the allegations and supporting evidence regarding material injury, threat of material injury, and causation, and we have determined that these allegations are properly supported by adequate evidence and meet the statutory requirements for initiation. See Initiation Checklist at Attachment III.

Period of Investigation

In accordance with 19 CFR 351.204(b), because this Petition was filed on May 29, 2009, the anticipated period of investigation (“POI”) is October 1, 2008 through March 31, 2009, the two most recently completed fiscal quarters, as of the month preceding the month in which the Petition was filed.

Allegations of Sales at Less Than Fair Value

The following is a description of the allegation of sales at less than fair value upon which the Department based its decision to initiate this investigation of imports of CSG from the PRC. The sources of data for the deductions and adjustments relating to the U.S. price, and the factors of production, are also discussed in the Initiation Checklist, issued concurrently with this Federal Register notice. See Initiation Checklist. Should the need arise to use any of this information as facts available under section 776 of the Act in our preliminary or final determinations, we will reexamine the information and revise the margin calculations, if appropriate.

Export Price

Petitioners calculated export prices (“EPs”) based on an offer for sale of five CSG products by a Chinese producer, sale term CIF. Petitioners presented an affidavit, in which they confirmed that the sales offer was made during the POI. See Initiation Checklist for further discussion

To calculate the net U.S. EP, Petitioners deducted from the U.S. prices the costs associated with exporting and delivering the product, which included expenses relating to foreign inland freight, ocean freight, insurance, foreign brokerage and handling, and U.S. port expenses (i.e., fees for security, unloading, and wharfage). See Volume II of the Petition at 4-10 and Exhibit II-9; see also Supplement to the AD Petition, at 1-3 and Exhibits S-1, S-2, S-3, S-4, S-5, and S-9, and Second Supplement to the AD Petition, at 1-2.

To be conservative, Petitioners did not make specific adjustments to the U.S. price for foreign port charges (stevedoring, wharfage and handling charges) and U.S. port expenses of unloading fee and wharfage because: (1) these expenses are either included in Petitioners' calculated ocean freight and insurance expenses; or (2) the information regarding the length of time in which goods would remain within the limits of the export and import ports was unclear to Petitioners. See Volume II of the Petition at 9-10. Petitioners calculated the per-unit value of ocean freight and insurance using the U.S. ITC data, by deducting the reported customs value of CSG landed in a specific U.S. port from the reported CIF value and dividing the resulting amount by the total import quantity. See Volume II of the Petition at 7-8 and Exhibit II-7; Supplement to the AD Petition, 2-3 and Exhibit S-4; and Second Supplement to the AD Petition, at 1-2. The U.S. Census Bureau defines CIF data as the sum of import charges and customs value. See http://www.census.gov/foreign-trade/www/sec2.html#valcusimports. Accordingly, when customs value is deducted from the CIF value, the remaining amount represents import charges. The U.S. Census Bureau defines import charges as “the aggregate cost of all freight, insurance, and other charges (excluding U.S. import duties) incurred in bringing the merchandise from alongside the carrier at the port of exportation in the country of exportation and placing it alongside the carrier at the first port of entry in the United States.” Id. Thus it is clear that import charges, the basis for ocean freight and insurance, include expenses associated with loading the merchandise from the wharf to the carrier, and those expenses associated with unloading the merchandise from the vessel to wharf, (i.e., stevedoring, wharfage and handling).

Petitioners calculated PRC brokerage and handling by using the brokerage and handling surrogate value used in the investigation of Certain Activated Carbon From the People's Republic of China: Notice of Preliminary Results of the Antidumping Duty Administrative Review and Extension of Time Limits for the Final Results, 74 FR 21317 (May 7, 2009) (“Activated Carbon From China”), and inflated it to the POI. See Activated Carbon From China 74 FR at 21328. See also Volume II of Petition, at 8-9, and Exhibit II-8, and Supplement to AD Petition, at 2 and Exhibit S-3.

Normal Value

Petitioners state that the PRC is a non-market economy (“NME”) country and no determination to the contrary has been made by the Department. See Volume II of the Petition at 11. Petitioners state that the Department has treated the PRC as an NME country in every administrative proceeding in which the PRC has been involved, and has continued to do so in recent months. Id.

In accordance with section 771(18)(C)(i) of the Act, the presumption of NME status remains in effect until revoked by the Department. The presumption of NME status for the PRC has not been revoked by the Department and, therefore, remains in effect for purposes of the initiation of this investigation. Accordingly, the NV of the product is appropriately based on factors of production valued in a surrogate market-economy country in accordance with section 773(c) of the Act. In the course of this investigation, all parties, including the public, will have the opportunity to provide relevant information related to the issues of the PRC's NME status and the granting of separate rates to individual exporters.

Citing section 773(c)(4) of the Act, Petitioners contend that India is the appropriate surrogate country for the PRC because: 1) it is at a level of economic development comparable to that of the PRC; and 2) it is a significant producer of CSG. See Volume II of the Petition at 11-13 and Exhibits II-10, II-11 and II-12. Based on the information provided by Petitioners, we believe that it is appropriate to use India as a surrogate country for initiation purposes. After initiation of the investigation, interested parties will have the opportunity to submit comments regarding surrogate-country selection and, pursuant to 19 CFR 351.301(c)(3)(i), will be provided an opportunity to submit publicly available information to value factors of production within 40 days after the date of publication of the preliminary determination.

Petitioners calculated the NV and dumping margins for the U.S. prices, discussed above, using the Department's NME methodology as required by 19 CFR 351.202(b)(7)(i)(C) and 19 CFR 351.408. Petitioners calculated NV based on the consumption rates of a U.S. CSG producer for the period of October 2008 through March 2009. See Volume II of the Petition at 13-23, and Exhibit II-13, and Supplement to the AD Petition at 5-8. Petitioners state that a U.S. CSG producer has produced CSG for many years, using a production method similar to that employed by the PRC manufacturer from whom Petitioners obtained the sales offer, upon which they relied for calculating the EP, discussed above. Accordingly, Petitioners state that the U.S. producer's production experience is representative of the production process used in the PRC. See Volume II of the Petition at 16 and Exhibit II-13, see also Supplement to the AD Petition, at 4-8 and Exhibit S-9.

Petitioners valued the factors of production based on reasonably available, public surrogate-country data, including Indian statistics from the Global Trade Information Services database known as Global Trade Atlas. See Volume II of the AD Petition at 18-20 and Exhibit II-15; see also Supplement to the AD Petition, at 8-9 and Exhibits S-6 and S-9 and Second Supplement to AD Petition, at 3 and 5 and Exhibits S2-2 and S2-3. Petitioners adjusted the values for raw materials by the freight costs associated with the transportation of raw materials from outside suppliers. See Volume II of the AD Petition at 17-19 and Exhibit II-18; see also Supplement to AD Petition, at 1, and Exhibit S-1. In addition, Petitioners made currency conversions, where necessary, based on the POI-average rupee/U.S. dollar exchange rate, as reported on the Department's website. See Volume II of the Petition at 17 and Exhibit II-4. Petitioners determined labor costs using the labor consumption, in hours, derived from a U.S. CSG producer. See Volume II of the AD Petition at 21, and Supplement to the AD Petition, at 6 and Exhibit S-7.

Petitioners determined labor costs using the Department's NME Wage Rate for the PRC at http://ia.ita.doc.gov/wages/05wages/05wages-051608.html#table2. See Volume II of the Petition at 21 and Exhibit II-17, and Supplement to the AD Petition, at 2-3. For purposes of initiation, the Department determines that the surrogate values used by Petitioners are reasonably available and, thus, acceptable for purposes of initiation.

Petitioners determined electricity costs using the electricity consumption, in kilowatt hours, derived from a U.S. producer. Petitioners valued electricity using the Indian electricity rate reported by the Central Electric Authority of the Government of India. See Volume II of the Petition, at 20-21 and Exhibit II-16; see also Supplement to the AD Petition, at 6 and Exhibit S-6.

Petitioners based factory overhead, selling, general and administrative, and profit on data from Mekins Agro Products Limited (“Mekins”) for the fiscal year April 2007, through March 2008. See Supplement to the AD Petition, at 10 and Exhibit S-8. Petitioners state that, like steel grating, the products manufactured by Mekins are steel goods which are unrolled, slit to or cut to the desired size and then welded utilizing welding machinery. Accordingly, Petitioners maintain that using Mekins' financial ratios satisfies the Department's “comparable” industry requirements, as they were unable to obtain industry-specific financial statements from India. Although the Mekins financial statement has a line item for state subsidy, we have insufficient evidence with respect to this line item to determine that the financial statement is less representative than other available information. See Certain Frozen Warmwater Shrimp From the Socialist Republic of Vietnam: Final Results of the First Antidumping Duty Administrative Review and First New Shipper Review, 72 FR 52052 (September 12, 2007) at Comment 2c. Therefore, for purposes of the initiation, the Department finds Petitioners' use of Mekins' financial ratios appropriate.

Fair-Value Comparisons

Based on the data provided by Petitioners, there is reason to believe that imports of CSG from the PRC are being, or are likely to be, sold in the United States at less than fair value. Based on a comparison of EP and NV calculated in accordance with section 773(c) of the Act, the estimated dumping margins for CSG from the PRC range from 131.51 percent to 145.18 percent. See Initiation Checklist.

Initiation of Antidumping Investigation

Based upon the examination of the Petition on CSG from the PRC the Department finds that the Petition meets the requirements of section 732 of the Act. Therefore, we are initiating an antidumping duty investigation to determine whether imports of CSG from the PRC are being, or are likely to be, sold in the United States at less than fair value. In accordance with section 733(b)(1)(A) of the Act and 19 CFR 351.205(b)(1), unless postponed, we will make our preliminary determination no later than 140 days after the date of this initiation.

Targeted-Dumping Allegation

On December 10, 2008, the Department issued an interim final rule for the purpose of withdrawing 19 CFR 351.414(f) and (g), the regulatory provisions governing the targeted- dumping analysis in antidumping duty investigations, and the corresponding regulation governing the deadline for targeted-dumping allegations, 19 CFR 351.301(d)(5). See Withdrawal of the Regulatory Provisions Governing Targeted Dumping in Antidumping Duty Investigations, 73 FR 74930 (December 10, 2008). The Department stated that “{w}ithdrawal will allow the Department to exercise the discretion intended by the statute and, thereby, develop a practice that will allow interested parties to pursue all statutory avenues of relief in this area.” Id. at 74931.

In order to accomplish this objective, if any interested party wishes to make a targeted- dumping allegation in this investigation pursuant to section 777A(d)(1)(B) of the Act, such allegations are due no later than 45 days before the scheduled date of the country-specific preliminary determination.

Respondent Selection

For this investigation, the Department will request quantity and value information from all known exporters and producers identified with complete contact information in the Petition. See Supplement to the AD Petition, at Exhibit S-1. The quantity and value data received from NME exporters/producers will be used as the basis to select the mandatory respondents.

The Department requires that the respondents submit a response to both the quantity and value questionnaire and the separate-rate application by the respective deadlines in order to receive consideration for separate-rate status. See Circular Welded Austenitic Stainless Pressure Pipe from the People's Republic of China: Initiation of Antidumping Duty Investigation, 73 FR 10221, 10225 (February 26, 2008), and Initiation of Antidumping Duty Investigation: Certain Artist Canvas From the People's Republic of China, 70 FR 21996, 21999 (April 28, 2005). Appendix II of this notice contains the quantity and value questionnaire that must be submitted by all NME exporters/producers no later than July 14, 2009. In addition, the Department will post the quantity and value questionnaire along with the filing instructions on the Import Administration website at http://ia.ita.doc.gov/ia-highlights-and-news.html.

Separate Rates

In order to obtain separate-rate status in NME investigations, exporters and producers must submit a separate-rate status application. See Policy Bulletin 05.1: Separate-Rates Practice and Application of Combination Rates in Antidumping Investigations involving Non-Market Economy Countries (April 5, 2005) (“Separate Rates and Combination Rates Bulletin”), available on the Department's website at http://ia.ita.doc.gov/policy/bull05-1.pdf. Based on our experience in processing the separate-rate applications in previous antidumping duty investigations, we have modified the application for this investigation to make it more administrable and easier for applicants to complete. See, e.g., Initiation of Antidumping Duty Investigation: Certain New Pneumatic Off-the-Road Tires From the People's Republic of China, 72 FR 43591, 43594-95 (August 6, 2007). The specific requirements for submitting the separate-rate application in this investigation are outlined in detail in the application itself, which will be available on the Department's website at http://ia.ita.doc.gov/nme/nme-sep-rate.html on the date of publication of this initiation notice in the Federal Register. The separate-rate application will be due 60 days after publication of this initiation notice. As noted in the “Respondent Selection” section above, the Department requires that respondents submit a response to both the quantity and value questionnaire and the separate-rate application by the respective deadlines in order to receive consideration for separate-rate status.

Use of Combination Rates in an NME Investigation

The Department will calculate combination rates for certain respondents that are eligible for a separate rate in this investigation. The Separate Rates and Combination Rates Bulletin states:

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.

See Separate Rates and Combination Rates Bulletin, at 6 (emphasis added).

Distribution of Copies of the Petition

In accordance with section 732(b)(3)(A) of the Act and 19 CFR 351.202(f), a copy of the public version of the Petition has been provided to the representatives of the Government of the PRC. Because of the particularly large number of producers/exporters identified in the Petition, the Department considers the service of the public version of the Petition to the foreign producers/exporters satisfied by the delivery of the public version to the Government of the PRC, consistent with 19 CFR 351.203(c)(2).

International Trade Commission Notification

We have notified the ITC of our initiation, as required by section 732(d) of the Act.

Preliminary Determinations by the International Trade Commission

The ITC will preliminarily determine, no later than July 13, 2009, whether there is a reasonable indication that imports of CSG from the PRC are materially injuring, or threaten material injury to, a U.S. industry. A negative ITC determination will result in the investigation being terminated; otherwise, this investigation will proceed according to statutory and regulatory time limits.

This notice is issued and published pursuant to section 777(i) of the Act.

Dated: June 18, 2009.
Ronald K. Lorentzen,
Acting Assistant Secretary for Import Administration.

Appendix I

Scope of the Investigation

The products covered by this investigation are certain steel grating, consisting of two or more pieces of steel, including load-bearing pieces and cross pieces, joined by any assembly process, regardless of: (1) size or shape; (2) method of manufacture; (3) metallurgy (carbon, alloy, or stainless); (4) the profile of the bars; and (5) whether or not they are galvanized, painted, coated, clad or plated. Steel grating is also commonly referred to as “bar grating,” although the components may consist of steel other than bars, such as hot-rolled sheet, plate, or wire rod.

The scope of this investigation excludes expanded metal grating, which is comprised of a single piece or coil of sheet or thin plate steel that has been slit and expanded, and does not involve welding or joining of multiple pieces of steel. The scope of this investigation also excludes plank type safety grating which is comprised of a single piece or coil of sheet or thin plate steel, typically in thickness of 10 to 18 gauge, that has been pierced and cold formed, and does not involve welding or joining of multiple pieces of steel.

Certain steel grating that is the subject of this investigation is currently classifiable in the Harmonized Tariff Schedule of the United States (“HTSUS”) under subheading 7308.90.7000. While the HTSUS subheading is provided for convenience and customs purposes, the written description of the scope of this investigation is dispositive.

Appendix II

Format for Reporting Quantity and Value of Sales

In providing the information in the chart below, please provide the total quantity in both pieces and kilograms (kg) (net weight) and total value (in U.S. dollars) of all your sales to the United States during the period October 1, 2008, through March 31, 2009, covered by the scope of this investigation (see Appendix I), produced in the PRC, i.e. CSG.

Please provide the conversion factor used to convert pieces to kg (net weight).

Please use the invoice date when determining which sales to include within the period noted above.¹

¹ If you believe that another date besides the invoice date would provide a more accurate representation of your company's sales during the designated period, please provide a full explanation.

Additionally, if you believe that you should be treated as a single entity along with other named exporters, please complete the chart, below, both in the aggregate for all named parties in your group and, in separate charts, individually for each named entity. Please label each chart accordingly.

Please state whether you exported CSG to the United States during the POI.

If you did export CSG to the United States during the POI, please state whether you produced 100 percent of the CSG that you exported to the United States during the POI.

If you did produce 100 percent of the CSG that you exported to the United States during the POI, please provide the following:

Market: United States | Total Quantity (kg) (Net Weight) | Total Quantity Pieces | Terms of Sale² | Total Value³ ($U.S.)
1. Export Price⁴
2. Constructed Export Price⁵
3. Further Manufactured⁶
Total
² To the extent possible, sales values should be reported based on the same terms (e.g., FOB).
³ Values should be expressed in U.S. dollars. Indicate any exchange rates used and their respective dates and sources.
⁴ Generally, a U.S. sale is classified as an EP sale when the first sale to an unaffiliated person occurs before the goods are imported into the United States.
⁵ Generally, a U.S. sale is classified as a constructed export price sale when the first sale to an unaffiliated person occurs after importation. However, if the first sale to the unaffiliated person is made by a person in the United States affiliated with the foreign exporter, constructed export price applies even if the sale occurs prior to importation. Do not report the sale to the affiliated party in the United States, rather report the sale made by the affiliated party to the unaffiliated customer in the United States.
⁶ “Further manufactured” refers to merchandise that undergoes further manufacture or assembly in the United States before sale to the first unaffiliated customer.

[FR Doc. E9-15018 Filed 6-24-09; 8:45 am]

BILLING CODE 3510-DS-S